DEPARTMENT OF COMMERCE

International Trade Administration

[A-570-910]

Circular Welded Carbon Quality Steel Pipe From the People's Republic of China: Rescission of the 2010-2011 Antidumping Duty Administrative Review

AGENCY: Import Administration, International Trade Administration, Department of Commerce.

SUMMARY: The Department of Commerce (“the Department”) is rescinding the administrative review of the antidumping duty order on circular welded carbon quality steel pipe (“CWP”) from the People's Republic of China (“PRC”) for the period of review (“POR”) of July 1, 2010, through June 30, 2011, with respect to twenty-nine companies. This rescission is based on the timely withdrawal of the requests for review by the only interested party that requested review of these companies.

DATES: Effective Date: December 9, 2011.

FOR FURTHER INFORMATION CONTACT: Thomas Martin or Robert Bolling, AD/CVD Operations, Office 4, Import Administration, International Trade Administration, U.S. Department of Commerce, 14th Street and Constitution Avenue, NW., Washington, DC 20230; telephone (202) 482-3936 or (202) 482-3434, respectively.

SUPPLEMENTARY INFORMATION:

Background

On July 1, 2011, the Department published in the Federal Register a notice of opportunity to request an administrative review of the antidumping duty order on CWP from the PRC. See Antidumping or Countervailing Duty Order, Finding, or Suspended Investigation; Opportunity To Request Administrative Review, 76 FR 38609, 38610 (July 1, 2011). In response, on August 1, 2011, the Ad Hoc Coalition For Fair Pipe Imports and its individual members, Allied Tube & Conduit, IPSCO Tubulars, Inc., Sharon Tube Company, Western Tube & Conduit Corporation, and Wheatland Tube Company (hereafter referred to as “Petitioners”) timely requested an administrative review of entries of the subject merchandise during the POR from the following companies: Adler Steel Ltd. (“Adler Steel”), Al Jazeera Steel Products Co SAOG (“Al Jazeera Steel”), Baoshan Iron & Steel Co., Ltd. (“Baoshan”), Benxi Northern Steel Pipes, Co. Ltd. (“Benxi Northern”), CNOOC Kingland Pipeline Co., Ltd. (“CNOOC Kingland”), ETCO (China) International Trading Co., Ltd. (“ETCO”), Great River Trading International Co. (“Great River Trading”), Guangzhou Juyi Steel Pipes Co., Ltd. (“Guangzhou Juyi”), Hebei Zhongyuan Steel Pipe Manufacturer (“Hebei Zhongyuan”), Hefei Zijin Steel Tube Manufacturing Co., Ltd. (“Hefei Zijin”), Huludao City Steel Pipe Industrial (“Huludao City Steel Pipe”), Hunan Great Steel Pipe Co., Ltd. (“Hunan Great”), Hunan Hengyang Steel Tube (Group) Co., Ltd. (“Hunan Hengyang”), Jiangsu Changbao Steel Tube Co., Ltd. (“Jiangsu Changbao”), Jiangsu Yulong Steel Pipe Co., Ltd. (“Jiangsu Yulong”), Liaoning Northern Steel Pipe Co., Ltd. (“Liaoning Northern”), Shanghai Zhongyou Tipo Steel (“Shanghai Zhongyou Tipo”), Shanghai Zhongyou TIPO Steel Pipe Co., Ltd. (“Shanghai Zhongyou TIPO”), Sichuan YNJ Industries Co., Ltd. (“Sichuan YNJ”), SteelFORCE Far East Ltd. (“SteelFORCE”), Tianjin Baolai International Trade Co., Ltd. (“Tianjin Baolai”), Tianjin Huilitong Steel Tube Co., Ltd. (“Tianjin Huilitong”), Tianjin Longshenghua Import & Export (“Tianjin Longshenghua”), Tianjin Shuangjie Steel Pipe Co., Ltd. (“Tianjin Shuangjie”), Tianjin Uniglory International Trade Co., Ltd. (“Tianjin Uniglory”), Weifang East Steel Pipe Co., Ltd. (“Weifang East”), Wuxi Fastube Industry Co., Ltd. (“Wuxi Fastube”), Zhejiang Kingland Pipeline Industry Co., Ltd. (“Zhejiang Kingland”), and Zhuji Tri-Union Import & Export Co., Ltd. (“Zhuji Tri-Union”). The Department initiated an administrative review of these companies. See Initiation of Antidumping and Countervailing Duty Administrative Reviews and Requests for Revocation in Part, 76 FR 53404 (August 26, 2011).

In a letter dated November 22, 2011, Petitioner withdrew its request for review of all of the companies for which it requested review, and requested that the Department rescind the review with respect to these companies. No other parties requested a review.

Rescission of Administrative Review

Pursuant to 19 CFR 351.213(d)(1), the Secretary will rescind an administrative review, in whole or in part, if the party who requested the review withdraws the request within 90 days of the date of publication of the notice of initiation of the requested review. Accordingly, Petitioners timely withdrew its requests for review of Adler Steel, Al Jazeera Steel, Baoshan, Benxi Northern, CNOOC Kingland, ETCO, Great River Trading, Guangzhou Juyi, Hebei Zhongyuan, Hefei Zijin, Huludao City Steel Pipe, Hunan Great, Hunan Hengyang, Jiangsu Changbao, Jiangsu Yulong, Liaoning Northern, Shanghai Zhongyou Tipo, Shanghai Zhongyou TIPO, Sichuan YNJ, SteelFORCE, Tianjin Baolai, Tianjin Huilitong, Tianjin Longshenghua, Tianjin Shuangjie, Tianjin Uniglory, Weifang East, Wuxi Fastube, Zhejiang Kingland, and Zhuji Tri-Union. Because no other party requested a review, pursuant to 19 CFR 351.213(d)(1), the Department is rescinding the entire administrative review of the antidumping duty order on CWP from the PRC for the period July 1, 2010, through June 30, 2011.

Assessment

The Department will instruct U.S. Customs and Border Protection (“CBP”) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to administrative protective order (“APO”) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

This notice is published in accordance with section 777(i) of the Act, and 19 CFR 351.213(d)(4).

Dated: December 5, 2011.
Christian Marsh,
Deputy Assistant Secretary for Antidumping and Countervailing Duty Operations.

[FR Doc. 2011-31688 Filed 12-8-11; 8:45 am]

BILLING CODE 3510-DS-P